DEPARTMENT OF COMMERCE

International Trade Administration

[A-588-872]

Non-Oriented Electrical Steel From Japan: Preliminary Results of Antidumping Duty Administrative Review; 2022-2023

AGENCY: Enforcement and Compliance, International Trade Administration, Department of Commerce.

SUMMARY: The U.S. Department of Commerce (Commerce) preliminarily determines that Nippon Steel Corporation (NSC) sold non-oriented electrical steel (NOES) from Japan in the United States at prices below normal value (NV) during the period December 1, 2022, through November 30, 2023, (the POR). Commerce invites interested parties to comment on these preliminary results of review.

DATES: Applicable April 11, 2025.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On December 3, 2014, Commerce published in the Federal Register the antidumping duty order on NOES from Japan.¹ On December 1, 2023, Commerce published in the Federal Register a notice of opportunity to request an administrative review of the Order for the POR.² On February 8, 2024, based on a timely request for a review from Nippon Steel Corporation (NSC), and pursuant to section 751(a)(1) of the Tariff Act of 1930, as amended (the Act),³ Commerce initiated an administrative review of the Order covering one company, NSC.⁴

¹ See Non-Oriented Electrical Steel from the People's Republic of China, Germany, Japan, the Republic of Korea, Sweden, and Taiwan: Antidumping Duty Orders, 79 FR 71741 (December 3, 2014) (Order).

² See Antidumping or Countervailing Duty Order, Finding, or Suspended Investigation; Opportunity to Request Administrative Review and Join Annual Inquiry Service List, 88 FR 83917 (December 1, 2023).

³ See Nippon Steel Corporation's Letter, “Non-Oriented Electrical Steel from Japan: NSC's Request for Administrative Review,” dated January 2, 2024.

⁴ See Initiation of Antidumping and Countervailing Duty Administrative Reviews, 89 FR 8641 (February 8, 2024).

On July 22, 2024, Commerce tolled certain deadlines in this administrative proceeding by seven days.⁵ On August 27, 2024, Commerce extended the time period for issuing the preliminary results in this review until no later than January 3, 2025.⁶ On December 9, 2024, Commerce tolled certain deadlines in this administrative proceeding by 90 days.⁷ On April 3, 2025, Commerce extended the time period for issuing the preliminary results.⁸ The deadline for issuing the preliminary results of this review is now April 7, 2025.

⁵ See Memorandum, “Tolling of Deadlines for Antidumping and Countervailing Duty Proceedings,” dated July 22, 2024.

⁶ See Memorandum, “Extension of Deadline for Preliminary Results of Antidumping Duty Administrative Review,” dated August 27, 2024.

⁷ See Memorandum, “Tolling of Deadlines for Antidumping and Countervailing Duty Proceedings,” dated December 9, 2024.

⁸ See Memorandum, “Extension of Deadline for Preliminary Results of Antidumping Duty Administrative Review,” dated April 3, 2025.

For a complete description of the events that followed the initiation of this administrative review, see the Preliminary Decision Memorandum.⁹ A list of topics included in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁹ See Memorandum, “Decision Memorandum for the Preliminary Results of the Administrative Review of the Antidumping Duty Order on Non-Oriented Electrical Steel from Japan; 2022-2023, dated concurrently with, and hereby adopted by, this notice (Preliminary Decision Memorandum).

Scope of the Order

The product covered by the Order is non-oriented electrical steel from Japan. For a complete description of the scope of the Order, see the Preliminary Decision Memorandum.

Methodology

Commerce is conducting this administrative review in accordance with section 751(a)(1)(B) of the Act. Pursuant to sections 776(a) and (b) of the Act, Commerce preliminarily assigned a weighted average dumping margin to NSC based on facts available with adverse inferences (AFA). For a full description of the methodology underlying the preliminary results of this review, see the Preliminary Decision Memorandum.

Preliminary Results of Review

Commerce preliminarily determines that the following weighted-average dumping margin exists:

Exporter or producer | Weighted- average dumping margin (percent)
Nippon Steel Corporation | 204.79

Disclosure and Public Comment

Normally, Commerce discloses to parties to the proceeding the calculations performed in connection with a preliminary results of review within five days of any public announcement of the preliminary results or, if there is no public announcement, within five days of the date of publication of the notice of preliminary results of review in the Federal Register, in accordance with 19 CFR 351.224(b). However, because Commerce preliminarily applied a weighted-average dumping margin based on AFA to the sole respondent under review, there are no calculations to disclose.

Case briefs or other written comments may be submitted to the Assistant Secretary for Enforcement and Compliance. Pursuant to 19 CFR 351.309(c)(1)(ii), we have modified the deadline for interested parties to submit case briefs to Commerce to no later than 21 days after the date of the publication of this notice.¹⁰ Rebuttal briefs, limited to issues raised in the case briefs, may be filed not later than five days after the date for filing case briefs.¹¹ Parties who submit case briefs or rebuttal briefs in this proceeding are encouraged to submit with each argument: (1) a statement of the issue; and (2) a table of authorities.¹² All briefs must be filed electronically using ACCESS. An electronically filed document must be received successfully in its entirety in ACCESS by 5:00 p.m. Eastern Time on the established deadline.

¹⁰ See 19 CFR 351.309.

¹¹ See 19 CFR 351.309(d); see also Administrative Protective Order, Service, and Other Procedures in Antidumping and Countervailing Duty Proceedings, 88 FR 67069, 67077 (September 29, 2023) (APO and Service Final Rule).

¹² See 19 CFR 351.309(c)(2) and (d)(2).

As provided under 19 CFR 351.309(c)(2) and (d)(2), in prior proceedings we have encouraged interested parties to provide an executive summary of their brief that should be limited to five pages total, including footnotes. In this review, we instead request that interested parties provide, at the beginning of their briefs, a public executive summary for each issue raised in their briefs.¹³ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁴

¹³ We use the term “issue” here to describe an argument that Commerce would normally address in a comment of the Issues and Decision Memorandum.

¹⁴ See APO and Service Final Rule.

Pursuant to 19 CFR 351.310(c), interested parties who wish to request a hearing must submit a written request to the Assistant Secretary for Enforcement and Compliance, filed electronically via ACCESS. Requests should contain: (1) the requesting party's name, address, and telephone number; (2) the number of individuals from the requesting party that will attend the hearing and whether any of those individuals is a foreign national; and (3) a list of the issues the party intends to discuss at the hearing. Issues raised in the hearing by a party will be limited to those raised in the party's case and rebuttal briefs. An electronically filed hearing request must be received successfully in its entirety by Commerce's electronic records system, ACCESS, by 5 p.m. Eastern Time within 30 days after the date of publication of this notice in the Federal Register. If a request for a hearing is made, Commerce will inform parties of the scheduled date for the hearing.¹⁵

¹⁵ See 19 CFR 351.310(d).

Assessment of Antidumping Duties

Upon issuance of the final results of this review, Commerce will determine, and U.S. Customs and Border Protection (CBP) shall assess, antidumping duties on all appropriate entries covered by this review.¹⁶ If Commerce continues to base NSC's weighted-average dumping margin upon total AFA in the final results of this review, then Commerce will instruct CBP to assess antidumping duties on subject merchandise sold by NSC and entered, or withdrawn from warehouse, for consumption during the POR at a rate equal to the weighted-average dumping margin in the final results. If Commerce calculates a weighted-average dumping margin for NSC in the final results of this review, then: (1) if that weighted-dumping margin is above de minimis, Commerce will calculate importer-specific ad valorem assessment rates by dividing the total amount of dumping calculated in the final results of this review for all reviewed U.S. sales to the importer/customer by the total entered value of the merchandise sold to the importer/customer; ¹⁷ (2) if either NSC's ad valorem weighted-average dumping margin is zero or de minimis, or an importer-specific ad valorem assessment rate is zero or de minimis Commerce will instruct CBP to liquidate the appropriate entries without regard to antidumping duties; ¹⁸ and (3) for entries that were not reported in NSC's U.S. sales data but that were entered under the CBP 10-digit case number applicable to entries of NSC's subject merchandise, Commerce will instruct CBP to liquidate such entries at the all-others rate if there is no rate for the intermediate company(ies) involved in the transaction.¹⁹ The final results of this administrative review shall be the basis for the assessment of antidumping duties on entries of the merchandise under review and for future deposits of estimated duties, where applicable.

¹⁶ See 19 CFR 351.212(b).

¹⁷ See 19 CFR 351.212(b)(1).

¹⁸ See Final Modification for Reviews, 77 FR at 8103; see also 19 CFR 351.106(c)(2).

¹⁹ For a full discussion of this practice, see Antidumping and Countervailing Duty Proceedings: Assessment of Antidumping Duties, 68 FR 23954 (May 6, 2003).

Commerce intends to issue assessment instructions to CBP no earlier than 35 days after the date of publication of the final results of this review in the Federal Register, in accordance with 19 CFR 356.8(a). If a timely summons is filed at the U.S. Court of International Trade, the assessment instructions will direct CBP not to liquidate relevant entries until the time for parties to file a request for statutory injunction has expired (i.e., within 90 days of publication).

Cash Deposit Requirements

The following cash deposit requirements for estimated antidumping duties will be effective for all shipments of subject merchandise entered, or withdrawn from warehouse, for consumption on, or after, the date of publication of the notice of the final results of this administrative review in the Federal Register, as provided for by section 751(a)(2)(C) of the Act: (1) for merchandise exported by NSC, the cash deposit rate for NSC will be equal to the weighted-average dumping margin established for the company in the final results of the review unless that rate is de minimis (i.e., less than 0.5 percent), in which case the cash deposit rate will be zero; (2) the cash deposit rate for an exporter not covered by this administrative review, but covered in a prior completed segment of this proceeding, will continue to be the that exporter's existing company-specific cash deposit rate; (3) if the exporter is not covered by this administrative review, or a completed segment of this proceeding, but the producer of the subject merchandise is covered, the cash deposit rate will be the producers' existing company-specific cash deposit rate; (4) the cash deposit rate for all other producers and exporters will continue to be 135.59 percent, the all-others cash deposit rate established in the Final Determination of the less-than-fair-value investigation in this proceeding.²⁰

²⁰ See Order, 79 FR at 71743.

These cash deposit requirements, when imposed, shall remain in effect until further notice.

Notification to Importers

This notice serves as a preliminary reminder to importers of their responsibility under 19 CFR 351.402(f)(2) to file a certificate regarding the reimbursement of antidumping duties prior to liquidation of the relevant entries during this period of review. Failure to comply with this requirement could result in Commerce's presumption that reimbursement of antidumping duties occurred and the subsequent assessment of double antidumping duties.

Notification to Interested Parties

We are issuing and publishing these preliminary results of administrative review in accordance with sections 751(a)(1) and 777(i)(1) of the Act, and 19 CFR 351.213(h) and 351.221(b)(4).

Dated: April 7, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Affiliation

V. Application of Facts Available and Use of Adverse Inferences

VI. Recommendation

[FR Doc. 2025-06223 Filed 4-10-25; 8:45 am]

BILLING CODE 3510-DS-P